DEPARTMENT OF COMMERCE

National Oceanic and Atmospheric Administration

RIN 0648-XD928

Northeast Regional Stock Assessment Workshop

AGENCY: National Marine Fisheries Service (NMFS), National Oceanic and Atmospheric Administration (NOAA), Commerce.

ACTION: Notice of public meeting.

SUMMARY: NMFS and the Northeast Regional Stock Assessment Workshop (SAW) will convene the 60th SAW Stock Assessment Review Committee for the purpose of reviewing stock assessments of scup and the bluefish. The Northeast Regional SAW is a formal scientific peer-review process for evaluating and presenting stock assessment results to managers for fish stocks in the offshore US waters of the northwest Atlantic. Assessments are prepared by SAW working groups and reviewed by an independent panel of stock assessment experts called the Stock Assessment Review Committee, or SARC. The public is invited to attend the presentations and discussions between the review panel and the scientists who have participated in the stock assessment process.

DATES: The public portion of the Stock Assessment Review Committee Meeting will be held from June 2 through June 5, 2015. The meeting will commence on June 2, 2015 at 10 a.m. Eastern Daylight Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: Sheena Steiner, 508-495-2177; email: sheena.steiner@noaa.gov; or, James Weinberg, 508-495-2352; email: james.weinberg@noaa.gov.

SUPPLEMENTARY INFORMATION: For further information, please visit the NEFSC Web site at http://www.nefsc.noaa.gov/. For additional information about the SARC meeting and the stock assessment review of scup and bluefish, please visit the NMFS/NEFSC SAW Web site at: http://www.nefsc.noaa.gov/saw/.

Daily Meeting Agenda—SAW/SARC 60 Benchmark Stock Assessments for Scup and Bluefish

Tuesday, June 2

10-10:30 a.m. Welcome, James Weinberg, SAW Chair

Introductions, Cynthia Jones, SARC Chair

10:30 a.m.-3:30 p.m. Scup Assessment Presentation, Mark Terceiro

3:45-5:45 p.m. Scup SARC Discussion, Cynthia Jones

5:45-6 p.m. Public Comments

Wednesday, June 3

8:30 a.m.-12:30 p.m. Bluefish Assessment Presentation, Tony Wood

1:30-3:30 p.m. Bluefish SARC Discussion, Cynthia Jones

3:30-3:45 p.m. Public Comments

4-6 p.m. Revisit Scup Discussion, Cynthia Jones

Thursday, June 4

8:30-10:30 a.m. Revisit Bluefish Discussion, Cynthia Jones

10:45 a.m.-12:15 p.m. Review/Edit Scup Assessment Summary Report, Cynthia Jones

3-6 p.m. Review/Edit Bluefish Assessment Summary Report, Cynthia Jones

Friday, June 5

9 a.m.-5 p.m. SARC Report Writing, Team

Special Accommodations

This meeting is physically accessible to people with disabilities. Special requests should be directed to Sheena Steiner at the NEFSC, 508-495-2177, at least 5 days prior to the meeting date.

Dated: April 29, 2015.
Emily H. Menashes,
Acting Director, Office of Sustainable Fisheries, National Marine Fisheries Service.

[FR Doc. 2015-10435 Filed 5-4-15; 8:45 am]

BILLING CODE 3510-22-P